DEPARTMENT OF THE INTERIOR

Fish and Wildlife Service

[FWS-R9-IA-2011-0087; 96300-1671-0000 FY12-R4]

Request for Information and Recommendations on Resolutions, Decisions, and Agenda Items for Consideration at the Sixteenth Regular Meeting of the Conference of the Parties to the Convention on International Trade in Endangered Species of Wild Fauna and Flora

AGENCY: Fish and Wildlife Service, Interior.

ACTION: Notice.

SUMMARY: To implement the Convention on International Trade in Endangered Species of Wild Fauna and Flora (CITES or the Convention), the Parties to the Convention meet periodically to review what species in international trade should be regulated and other aspects of the implementation of CITES. The sixteenth regular meeting of the Conference of the Parties to CITES (CoP16) is tentatively scheduled to be held in March 2013 in Thailand. This is our second in a series of Federal Register notices that, together with an announced public meeting, provide you with an opportunity to participate in the development of the U.S. negotiating positions for CoP16. We published our first CoP16-related Federal Register notice on June 14, 2011, in which we requested information and recommendations on species proposals for the United States to consider submitting for consideration at CoP16. Further input from the public on species proposals will be sought in a future notice. With this notice we are soliciting and invite you to provide us with information and recommendations on resolutions, decisions, and agenda items that the United States might consider submitting for discussion at CoP16. In addition, with this notice we provide preliminary information on how to request approved observer status for nongovernmental organizations that wish to attend the meeting.

DATES: We will consider all information and comments we receive on or before January 6, 2012.

ADDRESSES: You may submit comments pertaining to recommendations for resolutions, decisions, and agenda items for discussion at CoP16 by one of the following methods:

• Federal eRulemaking Portal: http://www.regulations.gov. Follow the instructions for submitting comments on Docket No. FWS-R9-IA-2011-0087.

• U.S. mail or hand-delivery: Public Comments Processing, Attn: FWS-R9-IA-2011-0087; Division of Policy and Directives Management; U.S. Fish and Wildlife Service; 4401 N. Fairfax Drive, MS 2042-PDM; Arlington, VA 22203.

We will not consider comments sent by email or fax or to an address not listed in the ADDRESSES section. We will post all comments on http://www.regulations.gov. This generally means that we will post any personal information you provide us. If you submit a comment via http://www.regulations.gov, your entire comment—including any personal identifying information—will be posted on the Web site. If you submit a hardcopy comment that includes personal identifying information, you may request at the top of your document that we withhold this information from public review. However, we cannot guarantee that we will be able to do so. We will post all hardcopy comments on http://www.regulations.gov.

Comments and materials we receive in response to this notice will be available for public inspection on http://www.regulations.gov, or by appointment, between 8 a.m. and 4 p.m., Monday through Friday, except Federal holidays, at the U.S. Fish and Wildlife Service, Division of Management Authority, 4401 N. Fairfax Drive, Room 212, Arlington, VA 22203; telephone (703) 358-1908.

FOR FURTHER INFORMATION CONTACT: For information pertaining to resolutions, decisions, and agenda items contact: Robert R. Gabel, Chief, Division of Management Authority, U.S. Fish and Wildlife Service, 4401 N. Fairfax Drive, Room 212, Arlington, VA 22203; telephone (703) 358-2095; facsimile (703) 358-2298. If you use a telecommunications device for the deaf (TDD), call the Federal Information Relay Service (FIRS) at (800) 877-8339. For information pertaining to species proposals contact: Rosemarie Gnam, Chief, Division of Scientific Authority, phone (703) 358-1708, fax (703) 358-2276, email: scientificauthority@fws.gov.

SUPPLEMENTARY INFORMATION:

Background

The Convention on International Trade in Endangered Species of Wild Fauna and Flora, hereinafter referred to as CITES or the Convention, is an international treaty designed to regulate international trade in certain animal and plant species that are now, or potentially may become, threatened with extinction. These species are listed in the Appendices to CITES, which are available on the CITES Secretariat's Web site at http://www.cites.org/eng/app/index.shtml.

Currently, 175 countries, including the United States, are Parties to CITES. The Convention calls for regular biennial meetings of the Conference of the Parties, unless the Conference decides otherwise. At these meetings, the Parties review the implementation of CITES, make provisions enabling the CITES Secretariat in Switzerland to carry out its functions, consider amendments to the list of species in Appendices I and II, consider reports presented by the Secretariat, and make recommendations for the improved effectiveness of CITES. Any country that is a Party to CITES may propose amendments to Appendices I and II, resolutions, decisions, and agenda items for consideration by all the Parties at the meeting.

This is our second in a series of Federal Register notices that, together with an announced public meeting, provide you with an opportunity to participate in the development of the U.S. submissions to and negotiating positions for the sixteenth regular meeting of the Conference of the Parties to CITES (CoP16). We published our first CoP16-related Federal Register notice on June 14, 2011 (76 FR 34746), in which we requested information and recommendations on species proposals for the United States to consider submitting for consideration at CoP16. With today's notice, we had intended to announce tentative species proposals that the United States is considering submitting for CoP16 and solicit further information and comments on them. However, we have not completed our assessment of the information received in response to our request for information and recommendations on species proposals for the United States to consider submitting for consideration at CoP16. We intend to announce tentative species proposals that the United States is considering submitting for CoP16 and solicit further information and comments on them when we publish our next CoP16-related Federal Register notice. You may obtain information on species proposals by contacting the Division of Scientific Authority at the telephone number or email address provided in “FOR FURTHER INFORMATION CONTACT” above. Our regulations governing this public process are found in title 50 of the Code of Federal Regulations (CFR) at 23.87.

CoP16 is tentatively scheduled to be held in Thailand in March 2013.

U.S. Approach for CoP16

We published our first CoP16-related Federal Register notice on June 14, 2011 (76 FR 34746) and described our approach for species proposals for the United States to consider submitting at CoP16. Priorities for U.S. submissions to CoP16 continue to be consistent with the overall objective of U.S. participation in the Convention: To maximize the effectiveness of the Convention in the conservation and sustainable use of species subject to international trade. With this in mind, we plan to consider the following factors when considering recommendations for resolutions, decisions, and agenda items for discussion at CoP16:

(1) Does the proposed action address difficulties in implementing or interpreting the Convention by the United States as an importing or exporting country, and would the proposed action contribute to the effective implementation of the Convention by all Parties? Differences in interpretation of the Convention by 175 Party nations can result in inconsistencies in the way it is implemented. In addition, wildlife trade is dynamic and ever-changing, thus presenting problems when established procedures are not readily applicable to new situations. The United States experiences some of these problems and inconsistencies directly through its own imports and exports, but we also learn of these difficulties through our participation in various fora, such as the CITES Standing Committee and technical committees, and through discussions with other countries, nongovernmental organizations, and the CITES Secretariat. When the United States cannot resolve these difficulties unilaterally or through bilateral discussions with trading partners, we may propose resolutions or decisions, usually in collaboration with other Parties, or have these topics included in the agenda of the meeting of the Conference of the Parties for discussion by all of the Parties.

(2) Does the proposed action improve implementation of the Convention by increasing the quality of information and expertise used to support decisions by the Parties? With increased complexity, sophistication, and specialization in the biological sciences and other disciplines, it is critical that the CITES Parties have the best available information upon which to base decisions that affect the conservation of wildlife resources. Where appropriate, the United States will recommend actions to ensure the availability of up-to-date and accurate information to the Parties, including through the establishment of relationships with relevant international bodies, including other conventions, interjurisdictional resource management agencies, and international nongovernmental organizations with relevant expertise.

Request for Information and Recommendations on Resolutions, Decisions, and Agenda Items

Although we have not yet received formal notice of the provisional agenda for CoP16, we invite your input on possible agenda items that the United States could recommend for inclusion, or on possible resolutions and decisions of the Conference of the Parties that the United States could submit for consideration. Copies of the agenda and the results of the last meeting of the Conference of the Parties (CoP15) in Doha, Qatar, in March 2010, as well as copies of all resolutions and decisions of the Conference of the Parties currently in effect, are available on the CITES Secretariat's Web site (http://www.cites.org/) or from the Division of Management Authority at the above address.

Observers

Article XI, paragraph 7 of CITES provides: “Any body or agency technically qualified in protection, conservation or management of wild fauna and flora, in the following categories, which has informed the Secretariat of its desire to be represented at meetings of the Conference by observers, shall be admitted unless at least one-third of the Parties present object:

(a) International agencies or bodies, either governmental or nongovernmental, and national governmental agencies and bodies; and

(b) National nongovernmental agencies or bodies which have been approved or this purpose by the State in which they are located.

Once admitted, these observers shall have the right to participate but not to vote.”

National agencies or organizations within the United States must obtain our approval to participate in CoP16, whereas international agencies or organizations must obtain approval directly from the CITES Secretariat. We will publish information in a future Federal Register notice on how to request approved observer status. A factsheet on the process is posted on our Web site at: http://www.fws.gov/international/pdf/ob.pdf.

Future Actions

As stated above, the next regular meeting of the Conference of the Parties (CoP16) is tentatively scheduled to be held in Thailand in March 2013. The United States must submit any proposals to amend Appendix I or II, or any draft resolutions, decisions, or agenda items for discussion at CoP16, to the CITES Secretariat 150 days (tentatively early October 2012) prior to the start of the meeting. In order to meet this deadline and to prepare for CoP16, we have developed a tentative U.S. schedule. When we publish our next CoP16-related Federal Register notice, we intend to announce tentative species proposals that the United States is considering submitting for CoP16 and solicit further information and comments on them. Following publication of that Federal Register notice and approximately 9 months prior to CoP16, we plan to publish a Federal Register notice announcing draft resolutions, draft decisions, and agenda items to be submitted by the United States at CoP16, and to solicit further information and comments on them. Approximately 4 months prior to CoP16, we will post on our Web site an announcement of the species proposals, draft resolutions, draft decisions, and agenda items submitted by the United States to the CITES Secretariat for consideration at CoP16.

Through a series of additional notices and Web site postings in advance of CoP16, we will inform you about preliminary negotiating positions on resolutions, decisions, and amendments to the Appendices proposed by other Parties for consideration at CoP16, and about how to obtain observer status from us. We will also publish an announcement of a public meeting tentatively to be held approximately 3 months prior to CoP16; that meeting will enable us to receive public input on our positions regarding CoP16 issues. The procedures for developing U.S. documents and negotiating positions for a meeting of the Conference of the Parties to CITES are outlined in 50 CFR 23.87. As noted in paragraph (c) of that section, we may modify or suspend the procedures outlined there if they would interfere with the timely or appropriate development of documents for submission to the CoP and of U.S. negotiating positions.

Author

The primary author of this notice is Clifton A. Horton, Division of Management Authority, U.S. Fish and Wildlife Service.

Authority

The authority for this action is the Endangered Species Act of 1973, as amended (16 U.S.C. 1531 et seq.).

Dated: October 19, 2011.
Hannibal Bolton,
Acting Director, U.S. Fish and Wildlife Service.

[FR Doc. 2011-28735 Filed 11-4-11; 8:45 am]

BILLING CODE 4310-55-P